DEPARTMENT OF TRANSPORTATION

Federal Aviation Administration

14 CFR Part 39

[Docket No. FAA-2009-0521; Directorate Identifier 2008-NM-187-AD; Amendment 39-16034; AD 2009-20-11]

RIN 2120-AA64

Airworthiness Directives; Boeing Model 737-300, -400, and -500 Series Airplanes Equipped With a Digital Transient Suppression Device (DTSD) Installed in Accordance With Supplemental Type Certificate (STC) ST00127BO

AGENCY: Federal Aviation Administration (FAA), Department of Transportation (DOT).

ACTION: Final rule; correction.

SUMMARY: The FAA is correcting information in an existing airworthiness directive (AD) that was published in the Federal Register on October 1, 2009. The error resulted in use of an outdated division name and e-mail address in the vendor contact information. This AD applies to certain Boeing Model 737-300, -400, and -500 series airplanes. This AD requires revising the maintenance program to include new fuel system limitations for airplanes modified in accordance with STC ST00127BO. This AD also requires inspections and checks of the DTSDs and corrective actions, if necessary.

DATES: Effective November 5, 2009.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue SE., Washington, DC 20590.

FOR FURTHER INFORMATION CONTACT: Marc Ronell, Aerospace Engineer, ANE-150, FAA, Boston Aircraft Certification Office, 12 New England Executive Park, Burlington, Massachusetts 01803; telephone (781) 238-7776; fax (781) 238-7170.

SUPPLEMENTARY INFORMATION: On September 18, 2009, the FAA issued AD 2009-20-11, Amendment 39-16034 (74 FR 50683, October 1, 2009), for certain Boeing Model 737-300, -400, and -500 series airplanes. The AD requires revising the maintenance program to include new fuel system limitations for airplanes modified in accordance with Supplemental Type Certificate ST00127BO. This AD also requires inspections and checks of the digital transient suppression device and corrective actions, if necessary.

As published, the vendor contact information specified in the Addresses section of the preamble and paragraph (n)(2) of the regulatory text of AD 2009-20-11 contained an outdated division name and e-mail address. Since that AD was published, the vendor has provided us with the recently updated contact information.

No other part of the regulatory information has been changed; therefore, the final rule is not republished in the Federal Register.

The effective date of this AD remains November 5, 2009.

Correction of non-regulatory text:

In the Federal Register of October 1, 2009, on page 50683, in the second column, the ADDRESSES section of AD 2009-20-11 is corrected to read as follows:

“ADDRESSES: For service information identified in this AD, contact Goodrich Corporation, Sensors and Integrated Systems (Formerly Fuel and Utility Systems), 100 Panton Road, Vergennes, Vermont 05491-1008; telephone 802-877-4476; e-mail SIS.TechPubs-VT@Goodrich.com; Internet http://www.goodrich.com/TechPubs.”

Correction of regulatory text:

§ 39.13 [Corrected]

In the Federal Register of October 1, 2009, on page 50685, in the second column, paragraph (n)(2) of AD 2009-20-11 is corrected to read as follows:

* * * * *

(2) For service information identified in this AD, contact Goodrich Corporation, Sensors and Integrated Systems (Formerly Fuel and Utility Systems), 100 Panton Road, Vergennes, Vermont 05491-1008; telephone 802-877-4476; e-mail SIS.TechPubs-VT@Goodrich.com; Internet http://www.goodrich.com/TechPubs.

* * * * *

Issued in Renton, Washington, on December 11, 2009.
Ali Bahrami,
Manager, Transport Airplane Directorate, Aircraft Certification Service.

[FR Doc. E9-30418 Filed 12-22-09; 8:45 am]

BILLING CODE 4910-13-P